DEPARTMENT OF THE TREASURY

Internal Revenue Service

26 CFR Part 1

[REG-112096-22]

RIN 1545-BQ46

Guidance Related to the Foreign Tax Credit; Hearing

AGENCY: Internal Revenue Service (IRS), Treasury.

ACTION: Notice of proposed rulemaking; notice of hearing.

SUMMARY: This document provides a notice of public hearing on proposed regulations relating to the foreign tax credit, including guidance with respect to the reattribution asset rule for purposes of allocating and apportioning foreign taxes, the cost recovery requirement, and the attribution rule for withholding tax on royalty payments.

DATES: The public hearing is being held on Wednesday, February 15, 2023, at 10 a.m. EDT. The IRS must receive speakers' outlines of the topics to be discussed at the public hearing by Friday, February 10, 2023.

ADDRESSES: The public hearing is being held by teleconference. Individuals that have submitted an outline of testimony and want to testify (by telephone) at the public hearing must send an email to publichearings@irs.gov to receive the telephone number and access code for the hearing. The subject line of the email must contain the regulation number [REG-112096-22] and the word TESTIFY. For example, the subject line may say: Request to TESTIFY at Hearing for REG-112096-22. The email must include the name(s) of the speaker(s) and title(s) only. No outlines will be accepted by email. Send outline submissions electronically via the Federal eRulemaking Portal at www.regulations.gov (IRS REG-112096-22). The email must be received by February 10, 2023.

FOR FURTHER INFORMATION CONTACT: Concerning §§ 1.901-2 and 1.903-1, Teisha Ruggiero, (646) 259-8116, § 1.861-20, Suzanne Walsh, (202) 317-4908; concerning submissions of comments, the hearing, and the access code to attend the hearing by teleconferencing, Vivian Hayes at (202) 317-5306 (not toll-free numbers) or publichearings@irs.gov. If emailing, please include Attend, Testify, or Agenda Request and [REG-112096-22] in the email subject line.

SUPPLEMENTARY INFORMATION: The subject of the public hearing is the notice of proposed rulemaking REG-112096-22 that was published in the Federal Register on Tuesday, November 22, 2022, 87 FR 71271.

The rules of 26 CFR 601.601(a)(3) apply to the hearing. Persons who wish to present oral comments telephonically at the hearing that previously submitted written comments by January 23, 2023, must submit an outline on the topics to be addressed and the amount of time to be devoted to each topic by February 10, 2023. A period of 10 minutes is allotted to each person for presenting oral comments.

After receiving outlines, the IRS will prepare an agenda containing the schedule of speakers. The agenda will be available via Federal eRulemaking Portal (www.Regulations.gov) under the title of Supporting & Related Material by February 12, 2023. The public hearing agenda will contain the telephone number and access code.

Individuals who want to attend (by telephone) the public hearing must also send an email to publichearings@irs.gov to receive the telephone number and access code for the hearing. The subject line of the email must contain the regulation number [REG-112096-22] and the word ATTEND. For example, the subject line may say: Request to ATTEND Hearing for REG-112096-22. The email requesting to attend the public hearing must be received by 5 p.m. EDT two (2) business days before the date that the hearing is scheduled.

The telephonic hearing will be made accessible to people with disabilities. To request special assistance during the telephonic hearing please contact the Publications and Regulations Branch of the Office of Associate Chief Counsel (Procedure and Administration) by sending an email to publichearings@irs.gov (preferred) or by telephone at (202) 317-5306 (not a toll-free number) by Friday, February 10, 2023.

Any questions regarding speaking at or attending a public hearing may also be emailed to publichearings@irs.gov.

Oluwafunmilayo A. Taylor,
Branch Chief, Publications and Regulations Branch, Legal Processing Division, Associate Chief Counsel (Procedure and Administration).

[FR Doc. 2023-02574 Filed 2-6-23; 8:45 am]

BILLING CODE 4830-01-P